NATIONAL SCIENCE FOUNDATION

Security From a Wireless Spectrum Perspective: Technology Innovation and Policy Research Needs

AGENCY: The Networking and Information Technology Research and Development (NITRD) National Coordination Office (NCO), National Science Foundation.

ACTION: Notice of meeting.

SUMMARY: This workshop will focus on the R&D challenges of securing the wireless spectrum access medium to assure spectrum availability, reliability and performance over wireless links. Representatives from Federal agencies, academia and the private sector will discuss the current technologies, tools and practices that are effective, and identify the gaps and issues that will require additional research.

DATES: September 13, 2018.

FOR FURTHER INFORMATION CONTACT: Wendy Wigen at (202) 459-9683 or wigen@nitrd.gov. Individuals who use a telecommunications device for the deaf (TDD) may call the Federal Information Relay Service (FIRS) at 1-800-877-8339 between 8 a.m. and 8 p.m., Eastern time, Monday through Friday.

SUPPLEMENTARY INFORMATION:

Overview: This notice is issued by the National Coordination Office for the Networking and Information Technology Research and Development (NITRD) Program. Agencies of the Wireless Spectrum R&D Interagency Working Group are conducting a workshop focused on security from a wireless spectrum perspective. Experts from government, private industry, and academia will help discuss the current technology, tools and practices that are effective, and identify gaps and issues that will require additional research to resolve. The workshop will take place on September 13 from 9:00 a.m. to 5:00 p.m. ET at the NITRD office, 490 L'Enfant Plaza SW, Suite 8001 (8th Floor), Washington, DC 20024. Participation is by invitation only but observers are welcome on a first come first served basis. This event will be webcast. The agenda and information about how to join the webcast will be available the week of the event at: https://www.nitrd.gov/nitrdgroups/index.php?title=WSRD-Workshop-X.

Workshop Goals: WSRD members will use information gathered from this workshop to develop recommendations on the government role in these technologies, as well as for their agency-specific research agendas.

Workshop Objectives: 1. Identify wireless security scenarios and issues in the context of increasingly congested and contested spectrum, and the emerging spectrum sharing and trading frameworks. 2. Discuss the ongoing technology innovations and the related short- and long-term regulatory frameworks. 3. Identify innovative tools, techniques, and experimentation for future research.

Submitted by the National Science Foundation in support of the Networking and Information Technology Research and Development (NITRD) National Coordination Office (NCO) on August 14, 2018.

Suzanne H. Plimpton,
Reports Clearance Officer, National Science Foundation.

[FR Doc. 2018-17845 Filed 8-17-18; 8:45 am]

BILLING CODE 7555-01-P